SECURITIES AND EXCHANGE COMMISSION

[File No. 500-1]

2DoTrade, Inc.; Order of Suspension of Trading

November 6, 2001.

It appears to the Securities and Exchange Commission that there is a lack of current and accurate information concerning the securities of 2DoTrade, Inc. (“2DoTrade”) because of questions regarding the accuracy of assertions by 2DoTrade and its officers, in press releases concerning, among other things: (1) The Company's claims about testing and the expected distribution of a supposed anti-bacterial compound as a disinfectant for anthrax; (2) the existence and viability of contracts entered into by the company; (3) the status of the company's business operations and prospects; and (4) the identity and backgrounds of the persons in control of the operations and management of the company.

The Commission is of the opinion that the public interest and the protection of investors require a suspension of trading in the securities of the above listed company.

Therefore, it is ordered, pursuant to Section 12(k) of the Securities Exchange Act of 1934, that trading in the above listed company is suspended for the period from 9:30 a.m. EST, November 6, 2001 through 11:59 p.m. EST, on November 19, 2001.

By the Commission.
Margaret H. McFarland,
Deputy Secretary.

[FR Doc. 01-28155 Filed 11-6-01; 1:45 pm]

BILLING CODE 8010-01-M